Title 3—

The President

Memorandum of July 23, 2004

National Guard Support for 2004 Democratic and Republican National Conventions and Other Appropriate Events

Memorandum for the Secretary of Defense

By the authority vested in me as President by the Constitution and the laws of the United States, including section 301 of title 3, United States Code, I hereby delegate to you the functions and authority of the President contained in section 325 of title 32, United States Code, with respect to activities related to the 2004 Democratic and Republican National Conventions, and other appropriate events as you determine from time to time in consultation with the Assistant to the President for Homeland Security.

You are further authorized and directed to make necessary arrangements to fund this activity from the proper appropriations and to publish this memorandum in the Federal Register.

B

THE WHITE HOUSE,

Washington, July 23, 2004.

[FR Doc. 04-17555

Filed 7-30-04; 9:59 am]

Billing code 5000-04-M